DEPARTMENT OF DEFENSE

Office of the Secretary

[Transmittal Nos. 14-29]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 14-29 with attached transmittal and policy justification.

Dated: July 8, 2014.
Aaron Siegel,
Alternate OSD Federal Register Liaison Officer, Department of Defense.

BILLING CODE 5001-06-P

Transmittal No. 14-29

Notice of Proposed Issuance of Letter of Offer Pursuant to Section 36(b)(1) of the Arms Export Control Act, as amended

(i) Prospective Purchaser: United Kingdom

(ii) Total Estimated Value:

Major Defense Equipment* | $0 million
Other | $250 million
Total | $250 million
* As defined in Section 47(6) of the Arms Export Control Act.

(iii) Description and Quantity or Quantities of Articles or Services under Consideration for Purchase: continued participation in the USAF/Boeing Globemaster III Sustainment Partnership which consists of support for the United Kingdom's fleet of eight Boeing C-17A Globemaster III cargo aircraft, contractor technical and logistics personnel services, support equipment, spare and repair parts, and other related elements of logistics support.

(iv) Military Department: Air Force (QBL)

(v) Prior Related Cases, if any:

FMS Case QCX-$19M-22Jan07

FMS Case QCX, Amd #1-$81M-30Oct07

FMS Case QCX, Amd #2-$242M-04Sep08

FMS Case QCX, Amd #4-$14M-10Nov10

FMS Case QCX, Amd #5-$116M-13Sep11

FMS Case QCX, Amd #6-$1M-20Jun13

(vi) Sales Commission, Fee, etc., Paid, Offered, or Agreed to be Paid: None

(vii) Sensitivity of Technology Contained in the Defense Article or Defense Services Proposed to be Sold: None

(viii) Date Report Delivered to Congress: 3 July 2014

POLICY JUSTIFICATION

United Kingdom—Globemaster III Sustainment Partnership

The Government of the United Kingdom (UK) has requested continued participation in the USAF/Boeing Globemaster III Sustainment Partnership which consists of support for the United Kingdom's fleet of eight Boeing C-17A Globemaster III cargo aircraft, contractor technical and logistics personnel services, support equipment, spare and repair parts, and other related elements of logistics support. The estimated cost is $250 million.

The UK is a major political and economic power in NATO and a key democratic partner of the U.S. in ensuring peace and stability in this region and around the world.

The continuation of this program will ensure the UK can effectively maintain its current force projection capability that enhances interoperability with U.S. forces. The support will provide UK with rapid global strategic mobility to deploy to austere locations. The UK is a staunch supporter of the U.S. in Iraq and Afghanistan and in overseas contingency operations.

The proposed sale of this equipment and support will not alter the basic military balance in the region.

The principal contractor will be The Boeing Company in Long Beach, California. There are no known offset agreements proposed in connection with this potential sale.

Implementation of this proposed sale will not require the assignment of any additional U.S. Government personnel or contractor representatives to the United Kingdom.

There will be no adverse impact on U.S. defense readiness as a result of this proposed sale.

[FR Doc. 2014-16352 Filed 7-11-14; 8:45 am]

BILLING CODE 5001-06-P